DEPARTMENT OF THE INTERIOR

Bureau of Reclamation

[FES-07-10]

Folsom Dam Safety and Flood Damage Reduction (DS/FDR) Action—Sacramento, El Dorado, and Placer Counties, CA

AGENCY: Bureau of Reclamation, Interior.

ACTION: Notice of availability of the Final Environmental Impact Statement/Environmental Impact Report (EIS/EIR).

SUMMARY: The Bureau of Reclamation (Reclamation), the lead Federal agency; the U.S. Army Corps of Engineers (Corps), a cooperating Federal agency; the Reclamation Board, the lead State agency; and the Sacramento Area Flood Control Agency (SAFCA), the local sponsor, have prepared a Final EIS/EIR for the Folsom DS/FDR Action. The Folsom DS/FDR proposed action includes features that address Reclamation's DS objectives and the Corps' FDR objectives jointly as well as features or increments that exclusively address DS, security, or FDR objectives and would be constructed by the respective agencies. The Final EIS/EIR contains responses to comments received on the Draft EIS/EIR.

The Corps intends to adopt the Final EIS/EIR to satisfy the requirements of National Environmental Policy Act for the Joint Federal Project (JFP) component and other FDR features as appropriate. The Corps has prepared a Post Authorization Change (PAC) Report which documents recommended changes to the authorized Folsom Modifications and Folsom Dam Raise projects.

A Notice of Availability of the Draft EIS/EIR was published in the Federal Register on Tuesday, November 28, 2006 (71 FR 68837). The public review period on the Draft EIS/EIR ended on January 22, 2006. The public review period was extended via a press release to January 26, 2007.

DATES: Any written comments on the Folsom DS/FDR Final EIS/EIR should be submitted on or before Monday, April 30, 2007, to Mr. Shawn Oliver or Mrs. Becky Victorine at the addresses below. The State Reclamation Board will complete a California Environmental Quality Act (CEQA) Findings on the Final EIS/EIR within 30 days of the document's release. No Federal decision will be made on the proposed action until 30 days after the release of the Final EIS/EIR. After this 30-day waiting period, Reclamation and the Corps will complete their respective Records of Decision (RODs) for the JFP, DS, and FDR objectives. The RODs and CEQA Findings will identify the recommended action to be implemented including any measures found necessary to avoid, reduce, or mitigate any significant adverse project effects.

ADDRESSES: Send written comments on the Folsom DS/FDR Final EIS/EIR to Mr. Shawn Oliver, Bureau of Reclamation, 7794 Folsom Dam Road, Folsom, CA 95630 (e-mail: soliver@mp.usbr.gov) and Mrs. Becky Victorine, U.S. Army Corps of Engineers, 1325 J Street, Sacramento, CA 95814, or e-mail: rebecca.a.victorine@usace.army.mil. Send requests for a compact disk or a bound copy of the Final EIS/EIR to Ms. Rosemary Stefani, Bureau of Reclamation, 2800 Cottage Way, Sacramento, CA 95825, telephone: (916) 978-5309, or e-mail: rstefani@mp.usbr.gov. The Folsom DS/FDR Final EIS/EIR will also be available on the Web at: http://www.usbr.gov/mp/nepa/ nepa_projdetails.cfm?Project_ID=1808

See SUPPLEMENTARY INFORMATION section for locations where the Folsom DS/FDR Final EIS/EIR is available for public review.

FOR FURTHER INFORMATION CONTACT: Mr. Shawn Oliver, Bureau of Reclamation at the above address, or Mrs. Becky Victorine, U.S. Army Corps of Engineers at the above address.

SUPPLEMENTARY INFORMATION: The Folsom Facility consists of 12 structures (dams and dikes), which impound the American River forming the Folsom Reservoir. Both Reclamation and the Corps share in the responsibility of ensuring that the Folsom Facility is maintained and operated under their respective agency dam safety regulations and guidelines, as defined by Congress. As a part of their responsibilities, Reclamation and the Corps have determined that the Folsom Facility requires structural improvements to increase overall public safety above existing conditions by improving the facilities' ability to reduce flood damages and address dam safety issues posed by hydrologic (flood), seismic (earthquake), and static (seepage) events. While these events have a low probability of occurrence in a given year, due to the large population downstream of Folsom Dam, modifying the facilities is prudent and required to improve public safety above current baseline conditions.

The Folsom DS/FDR Final EIS/EIR discusses the project background, purpose and need, project description, and related projects. Responses to all comments received from interested organizations and individuals on the Draft EIS/EIR during the public review period and at the public hearing are addressed in the Final EIS/EIR. The Final EIS/EIR addresses the impacts of project construction on aquatic resources, terrestrial vegetation and wildlife, hydrology, water quality, groundwater, water supply, hydropower resources, socioeconomics, soils, minerals, geological resources, visual resources, agricultural resources, transportation and circulation, noise, cultural resources, land use, planning and zoning, recreation resources, public services and utilities, air quality, population and housing, public health and safety, environmental justice, and Indian trust assets. There is the potential for significant impacts to air quality, water quality, soils, visual resources, noise, transportation, terrestrial vegetation and wildlife, cultural resources, socioeconomics, and recreation including utilizing recreation areas for staging and construction purposes, re-routing recreation trails, and potential excavation of borrow material at Beal's Point, Folsom Point, and Mooney Ridge.

The Folsom DS/FDR proposed action considered by the lead agencies is the alternative that includes:

• Joint Federal Project (JFP) auxiliary spillway with a six submerged tainter gate control structure and concrete-lined chute, stilling basin, and approach channel;

• Potential 3.5-foot parapet concrete wall raise and replacement of three emergency spillway gates for FDR;

• DS features including jet grouting the foundation of Mormon Island Auxiliary Dam (MIAD) for seismic stability; toe drains and full-height filters at the Left and Right Wing Dams, MIAD, Dikes 4, 5, and 6 to address static risks; and security upgrades at Folsom Dam and Appurtenant Structures (the Folsom Facility).

The Folsom Reservoir currently provides water supply, flood control, hydropower, fish and wildlife, and recreational benefits. The proposed action will not change operations relative to water supply, flood control, hydropower, and fish and wildlife benefits, but will result in temporary disruptions of recreational activities at and near construction and staging sites.

Availability of Copies of Folsom DS/FDR Final EIS/EIR

Copies of the Folsom DS/FDR Final EIS/EIR are available for public review at the following locations:

• Bureau of Reclamation, Denver Office Library, Building 67, Room 167, Denver Federal Center, 6th and Kipling, Denver, CO 80225.

• Bureau of Reclamation, Mid-Pacific Regional Office Library, 2800 Cottage Way, W-1825, Sacramento, CA 95825-1898.

• El Dorado County Library, 345 Fair Lane, Placerville, CA 95667-5699.

• Folsom Public Library, 300 Persifer Street, Folsom, CA 95630.

• Natural Resources Library, U.S. Department of the Interior, 1849 C Street NW., Main Interior Building, Washington, DC 20240-0001.

• Roseville Public Library, 311 Vernon Street, Roseville, CA 95678.

• Sacramento Central Library, 828 I Street, Sacramento, CA 95814-2589.

Additional Information

Correspondence received in response to this notice will become part of the administrative record and is subject to public inspection. Our practice is to make correspondence including names, home addresses, home phone numbers, and email addresses of respondents, available for public review. Individuals may request that we withhold their names and/or home addresses, etc., but if you wish us to consider withholding this information, you must state this prominently at the beginning of your correspondence. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: March 13, 2007.
Kirk C. Rodgers,
Regional Director, Mid-Pacific Region.

[FR Doc. E7-5559 Filed 3-27-07; 8:45 am]

BILLING CODE 4310-MN-P